SMALL BUSINESS ADMINISTRATION

[Declaration of Disaster #3482]

State of Kentucky (Amendment #1)

In accordance with a notice received from the Federal Emergency Management Agency, effective March 27, 2003, the above numbered declaration is hereby amended to include Anderson, Clay, Elliott, Estill, Knox, Lawrence, Magoffin, Mason, Menifee, Morgan, Nicholas, Powell, Rowan, and Woodford Counties in the State of Kentucky as a disaster area due to damages caused by severe winter ice and snow storms, heavy rain, flooding, tornadoes, and mud and rock slides occurring on February 15 through February 26, 2003.

In addition, applications for economic injury loans from small businesses located in the contiguous counties of Bath, Bracken, Franklin, Harrison, Laurel, Mercer, Nelson, Robertson, Shelby, Spencer, Washington, and Whitley in the State of Kentucky and Brown County in the State of Ohio may be filed until the specified date at the previously designated location. All other counties contiguous to the above named primary counties have been previously declared.

All other information remains the same, i.e., the deadline for filing applications for physical damage is May 13, 2003, and for economic injury the deadline is December 15, 2003.

(Catalog of Federal Domestic Assistance Program Nos. 59002 and 59008)
Dated: March 28, 2003.
Cheri C. Wolff,
Acting Associate Administrator for Disaster Assistance.

[FR Doc. 03-8513 Filed 4-7-03; 8:45 am]

BILLING CODE 8025-01-P